DEPARTMENT OF DEFENSE

Department of the Navy

Public Hearings for the Draft Environmental Impact Statement (DEIS) for the North Pacific Acoustic Laboratory (NPAL)

AGENCY: Department of the Navy, DOD.

ACTION: Notice.

SUMMARY: The Department of the Navy, Office of Naval Research (ONR), has prepared and filed with the U.S. Environmental Protection Agency (EPA) a DEIS for the reuse of the sound source and cable previously installed by the Acoustic Thermometry of Ocean Climate (ATOC) Project for the NPAL. Public hearings will be held to provide information and to receive oral and written comments on the DEIS. Federal, state and local agencies, and interested individuals are invited to be present or represented at the hearings.

DATES AND ADDRESSES: Public hearings will be held in: (1) Lihue, Kauai, HI on July 5, 2000 from 7 PM—9:30 PM at the Kauai Community College Dining Room, 3-1901 Kaumualii Highway; (2) Honolulu, HI on July 6, 2000 from 7 PM—9:30 PM at the Hawaii Imin International Conference Center, East-West Center, 2nd Floor, Pacific Room, 1777 East-West Road, and (3) Kilauea, Kauai, HI on July 8, 2000 from 1:30 PM—4 PM at the Kilauea Neighborhood Center, 2460 Keneke Street.

The evening meetings in Lihue and Honolulu will consist of an informational presentation at 7 PM, followed by a public hearing at 8 PM. The afternoon meeting in Kilauea will consist of an informational presentation at 1:30 PM, followed by a public hearing at 2:30 PM.

FOR FURTHER INFORMATION CONTACT: Ms. Kathleen Vigness Raposa, telephone (401) 847-7508.

SUPPLEMENTARY INFORMATION: In accordance with the requirements of the National Environmental Policy Act of 1969 (42 U.S.C. 4321-4345) and its implementing regulations (40 CFR parts 1500 to 1508), and in accordance with the Hawaii Environmental Impact Statement (EIS) Law (Chapter 343, Hawaii Revised Statutes), ONR has prepared and filed with the EPA a joint state-federal DEIS for the reuse of the sound source and cable previously installed for use in ATOC research for NPAL.

A Notice of Intent for this EIS was published in the Federal Register on June 15, 1999. Public scoping meetings were held in Hanalei, Kauai, HI, on June 29, 1999; in Lihue, Kauai, HI, on June 30, 1999; and in Honolulu, HI, on July 1, 1999.

The proposed action is reuse of the ATOC sound source and cable for NPAL, an ONR basic research project, which would combine: a second phase of research on the feasibility and value of large-scale acoustic thermometry; long-range underwater sound transmission studies; and marine mammal monitoring and studies.

Under the proposed action, the seabed power cable and sound source would remain in their present locations, and transmissions would continue for a period of five years with approximately the same signal parameters and transmission schedule used in the ATOC project. The action would be carried out by Scripps Institution of Oceanography, University of California, San Diego, which is the applicant for necessary state and federal permits, and by the Applied Physics Laboratory of the University of Washington.

The DEIS addresses the potential effects of the transmissions on the marine environment, including potential auditory, behavioral, and physiological effects on marine mammals and other marine creatures. Alternatives developed and analyzed in the DEIS include: the Preferred Alternative, in which the Kauai sound source would be used as described above; the No Action Alternative, in which no further activity with the Kauai source would occur; and the Midway Alternative, in which a sound source and cable would be located off Midway Island. The proposed action is the preferred alternative because it best meets the project's purpose and need.

The DEIS has been distributed to various federal, state, and local agencies, elected officials, special interest groups, and public libraries. The document is available for public review at the following libraries:

Aina Haina Public Library, 5246 Kalanianaole Highway, Honolulu, HI 96821

Hawaii Kai Public Library, 249 Lunalilo Home Road, Honolulu, HI 96825

Hawaii State Library, Hawaii Documents Center, 478 South King Street, Honolulu, HI 96813

Kaimuki Public Library, 1041 Koko Head Avenue, Honolulu, HI 96816

Kailua Public Library, 239 Kuulei Road, Kailua, HI 96734

McCully-Moiliili Public Library, 2211 South King Street, Honolulu, HI 96826

Pearl City Public Library, 1138 Waimano Home Road, Pearl City, HI 96782

Salt Lake-Moanalua Public Library, 648 Ala Lilikoi Street, Honolulu, HI 96818

Waikiki-Kapahulu Public Library, 400 Kapahulu Avenue, Honolulu, HI 96815

University of Hawaii, Hamilton Library, 2559 The Mall, Honolulu, HI 96822

Kalihi-Palama Public Library, 1325 Kalihi Street, Honolulu, HI 96819

Kaneohe Public Library 45-829 Kamehameha Highway, Kaneohe, HI 96744

Library for the Blind & Physically Handicapped, 402 Kapahulu Avenue, Honolulu, HI 96815

Liliha Public Library, 1515 Liliha Street, Honolulu, HI 96817

Manoa Public Library, 2716 Woodlawn Drive, Honolulu, HI 96822

Wailuku Public Library, 251 High Street, Wailuku, HI 96793

Kapaa Public Library, 1464 Kuhio Highway, Kapaa, HI 96746

Lihue Public Library, 4344 Hardy Street, Lihue, HI 96766

Lanai Public & School Library, P.O. Box 550, Lanai City, HI 96763

Hilo Public Library, 300 Waianuenue, Hilo, HI 96720

Kahului Public Library, 90 School Street, Kahului, HI 96732

Kailua-Kona Public Library, 75-I38 Hualalai Road, Kailua-Kona, HI 96740

Kihei Public Library, 35 Waimahaihai Street, Kihei, HI 96753

Lahaina Public Library, 680 Wharf Street, Lahaina, HI 96761

Hanapepe Public Library, P.O. Box B, Hanapepe, HI 96716

Koloa Public & School Library, P.O. Box 9, Koloa, HI 96756

Waimea Public Library, P.O. Box 397, Waimea, HI 96796

Molokai Public Library, P.O. Box 395, Kaunakakai, HI 96748

Navy will conduct three public hearings to receive oral and written comments concerning the DEIS. A brief presentation will precede a request for public information and comments. Navy representatives will be available at the hearings to receive information and comments from agencies and the public regarding issues of concern. Federal, state, and local agencies, and interested parties are invited and urged to be present or represented at the hearing. Those who intend to speak will be asked to submit a speaker card (available at the door). Oral comments will be heard and transcribed by a stenographer.

To assure accuracy of the record, all statements should be submitted in writing. All statements, both oral and written, will become part of the public record in the study. Equal weight will be given to both oral and written comments. In the interest of available time, each speaker will be asked to limit oral comments to three minutes. Longer comments should be summarized at the public hearings and submitted in writing either at the hearings or mailed to Office of Naval Research, Marine Acoustics, Inc., 809 Aquidneck Avenue, Middletown, RI 02842 (Attn. Ms. Kathleen Vigness Raposa, telephone (401) 847-7508, facsimile (401) 847-7864). Written comments are requested not later than July 24, 2000.

Dated: June 20, 2000.
C.G. Carlson,
Major, U.S. Marine Corps, Alternate Federal Register Liaison Officer.

[FR Doc. 00-15973 Filed 6-22-00; 8:45 am]

BILLING CODE 3810-FF-P